DEPARTMENT OF JUSTICE

Notice of Lodging of Consent Decree Under the Comprehensive Environmental Response, Compensation and Liability Act (CERCLA)

Under section 122(d)(2) of the Comprehensive Environmental Response, Compensation and Liability Act (“CERCLA”), 42 U.S.C. 9622(d)(2), and 28 CFR 50.7, notice is hereby given that on January 12, 2002, a proposed Consent Decree in United States v. Franc Motors, et al., Civil Action No. 3:02CV71(AWT), was lodged with the United States District Court for the District of Connecticut.

In this action, the United States sought recovery of over $1.6 million of costs incurred by the United States Environmental Protection Agency in conducting a removal action at the National Oil Service Superfund Site in West Haven, Connecticut. The United States filed its complaint pursuant to section 107(a) of CERCLA, 42 U.S.C. 9607(a), seeking recovery of over $1.6 million. The complaint named 8 defendants which arranged for the disposal of waste oil at the Site. The proposed Consent Decree resolves the United States' cost recovery claims against all of those defendants. Under the proposed Consent Decree, settling defendants collectively agree to pay over $300,000 in partial reimbursement of the United States' response costs.

The Department of Justice will receive comments relating to the proposed Consent Decree for a period of thirty (30) days from the date of this publication. As a result of the discovery of anthrax contamination at the District of Columbia mail processing center in mid-October, 2001, the delivery of regular mail sent through the U.S. Postal Service has been disrupted. Consequently, public comments which are addressed to the Department of Justice in Washington, DC and sent by regular, first-class mail through the U.S. Postal Service are not expected to be received in a timely manner. Therefore, comments should be addressed to the Assistant Attorney General, Environment and Natural Resources Division, Department of Justice, and sent (1) C/O Eve Vaudo, U.S. E.P.A. Region 1, One Congress Street, Boston, MA 02114-2023; (2) by facsimile to (202) 353-0296; and/or (3) by overnight delivery, other than through the U.S. Postal Service, to Chief, Environmental Enforcement Section, 1425 New York Avenue, NW, 13th Floor, Washington, DC 20005. Each communication should refer on its face to United States v. Franc Motors, et al., D.J. Ref. 90-11-3-07333/3.

The proposed Consent Decree may be examined at the Office of the United States Attorney, Connecticut Financial Center, New Haven, CT, and at the Region 1 office of the Environmental Protection Agency, One Congress Stree, Boston, MA. A copy of the proposed Consent Decree may also be obtained by faxing a request to Tonia Fleetwood, Department of Justice Consent Decree Library, fax no. (202) 616-6584; phone confirmation no. (202) 514-1547. There is a charge for the copy (25 cents per page reproduction cost). Upon requesting a copy, please mail a check payable to the “U.S. Treasury,” in the amount of amount of five dollars ($5.00) to the Consent Decree Library, U.S. Department of Justice, P.O. Box 7611, Washington, DC 20044-7611. The check should refer to United States v. Franc Motors, et al., D.J. Ref. 90-11-3-07333/3.

Ronald G. Gluck,
Assistant Chief, Environmental Enforcement Section, Environment and Natural Resources Division.

[FR Doc. 02-4432 Filed 2-22-02; 8:45 am]

BILLING CODE 4410-15-M